SMALL BUSINESS ADMINISTRATION

Meeting of the Advisory Committee on Veterans Business Affairs

AGENCY: U.S. Small Business Administration

ACTION: Notice of open Federal Advisory Committee meeting.

SUMMARY: The SBA is issuing this notice to announce the loation, date, time and agenda for the next meeting of the Advisory Committee on Veterans Business Affairs. The meeting will be open to the public.

DATES: Wednesday, September 16, 2016, from 9:00 a.m. to 4:00 p.m.

ADDRESSES: U.S. Small Business Administration, 409 3rd Street SW., Washington, DC 20416, Eisenhower Conference room, side B, located on the concourse level.

SUPPLEMENTARY INFORMATION: Pursuant to section 10(a)(2) of the Federal Advisory Committee Act (5 U.S.C., Appendix 2), SBA announces the meeting of the Advisory Committee on Veterans Business Affairs (ACVBA). The ACVBA serves as an independent source of advice and policy recommendation to the Administrator of the U.S. Small Business Administration. The purpose of this meeting is to discuss the formation and growth of small business concerns owned and controlled by veterans and service disable-veterans and to focus on strategic planning and provide updates on past and current events.

Additional Information: This meeting is open to the public. Advance notice of attendance is requested. Anyone wishing to attend and/or make comments to the Advisory Committee contact the Office of Veterans Business Development no later than September 9, 2016 at vetstaskforce@sba.gov. Comments will be limited to five minutes in the interest of time and to accommodate as many participants as possible. Written comments should also be sent to the above email no later than September 9, 2016. Special accomodations requests should also be directed to the Office of Veterans Business Development at (202) 205-6773 or above email. For more information on veteran owned small business programs, please visit www.sba.gov/vets.

Dated: August 2, 2016.
Miguel J. L'Heureux,
SBA Committee Management Officer.

[FR Doc. 2016-19488 Filed 8-15-16; 8:45 am]

BILLING CODE 8025-01-P